DEPARTMENT OF HOMELAND SECURITY

Coast Guard

33 CFR Part 167

[USCG-2010-0833]

Port Access Route Study: In the Bering Strait; Extension of Comment Period

AGENCY: Coast Guard, DHS.

ACTION: Notice of extension of public comment period.

SUMMARY: On November 8, 2010, USCG published a Notice of Study and request for comments for the Port Access Route Study: In the Bering Strait. In this action, USCG is providing notice that the public comment period is extended until September 6, 2011. This action will provide the public with additional time and opportunity to provide the Coast Guard with information regarding the Port Access Route Study: In the Bering Strait.

DATES: Comments and related material must either be submitted to our online docket via http://www.regulations.gov on or before September 6, 2011, or reach the Docket Management Facility by that date.

ADDRESSES: You may submit comments identified by docket number USCG-2010-0833 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice of study, call or e-mail Lieutenant Faith Reynolds, Project Officer, Seventeenth Coast Guard District, telephone 907-463-2270; e-mail Faith.A.Reynolds@uscg.mil; or George Detweiler, Office of Waterways Management, Coast Guard, telephone 202-372-1566, e-mail George.H.Detweiler@uscg.mil. If you have questions on viewing or submitting material to the docket, call Ms. Renee K. Wright, Program Manager, Docket Operations, telephone 202-366-9826.

SUPPLEMENTARY INFORMATION: On November 8, 2010, USCG published a Notice of Study and request for comments for the Port Access Route Study: In the Bering Strait (75 FR 68568). The comment period in that document closed May 9, 2011. In this action, USCG is providing notice that the public comment period is extended until September 6, 2011.

Public Participation and Request for Comments

We encourage you to participate in this study by submitting comments and related materials. All comments received will be posted, without change, to http://www.regulations.gov and will include any personal information you have provided.

Submitting comments: If you submit comments, please include the docket number for this notice (USCG-2010-0833), indicate the specific section of this document to which each comment applies, and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “USCG-2010-0833” in the “Keyword” box. Click “Search” then click on the balloon shape in the “Actions” column. If you submit your comments by mail or hand delivery, submit them in an unbound format, no larger than 8½ by 11 inches, suitable for copying and electronic filing. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing comments and documents: To view comments and documents mentioned in this preamble as being available in the docket, go to http://www.regulations.gov, click on the “read comments” box, which will then become highlighted in blue. In the “Keyword” box insert “USCG-2010-0833” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

This notice is issued under authority of 33 U.S.C. 1223(c) and 5 U.S.C. 552.

Christopher C. Colvin,
Rear Admiral, U.S. Coast Guard, Commander, Seventeenth Coast Guard District.

[FR Doc. 2011-11544 Filed 5-10-11; 8:45 am]

BILLING CODE 4910-15-P